DEPARTMENT OF HEALTH AND HUMAN SERVICES

National Institutes of Health

National Institute of Mental Health; Notice of Workshop

Notice is hereby given of a workshop convened by the Interagency Autism Coordinating Committee (IACC).

The purpose of the 2013 IACC Strategic Plan Update Workshop is to convene IACC members and invited subject matter and community experts to discuss updates on scientific research, services, policy that may be relevant to the IACC's efforts to develop a 2013 update of the IACC Strategic Plan for Autism Spectrum Disorder Research. The workshop will be open to the public and accessible by live webcast and conference call.

Name of Committee: Interagency Autism Coordinating Committee (IACC).

Type of meeting: Open.

Date: November 15, 2013.

Time: 8:30 a.m. to 5:00 p.m. Eastern Time.

Agenda: The workshop will feature discussions between IACC members and external subject matter and community experts regarding updates from the field and from the community that the committee may consider when developing the 2013 update of the IACC Strategic Plan.

Place: National Institutes of Health, 1 Center Drive, Building 1, Conference Room—Wilson Hall, Bethesda, MD 20982.

Conference Call Access: Phone number: 888-603-9744. Access code: 4649252.

Webcast Live: http://videocast.nih.gov/.

Cost: The meeting is free and open to the public.

Registration: Pre-registration is recommended to expedite check-in. Seating in the meeting room is limited to room capacity and on a first come, first served basis. To register, please visit http://iacc.hhs.gov/events.

Public Comment Deadlines

Notification of intent to present oral comments: Friday, November 8, 2013 by 5:00 p.m. ET.

Submission of written/electronic statement for oral comments: Tuesday, November 12, 2013 by 5:00 p.m. ET.

Final Deadline for Submission of written comments: Tuesday, November 12, 2013 by 5:00 p.m. ET.

Please note: The NIMH Office of Autism Research Coordination (OARC) anticipates that written public comments received by the deadline of 5:00 p.m. ET, Tuesday, November 12, 2013 will be presented to the Committee prior to the November 15th workshop for the Committee's consideration. Any written comments received after the November 12, 2013 deadline (between November 13-14, 2013) will be provided to the Committee either before or after the meeting, depending on the volume of comments received and the time required to process them in accordance with privacy regulations and other applicable Federal policies.

Access: Medical Center Metro Station (Red Line). On-site parking is available for a fee, but very limited. Vehicles entering the NIH campus are subject to security inspections, and visitors must present photo identification for NIH campus access.

Contact Person: Ms. Lina Perez, Office of Autism Research Coordination, National Institute of Mental Health, NIH, 6001 Executive Boulevard, NSC, Room 6182a, Rockville, MD 20852, Phone: (301)-443-6040, Email: IACCPublicInquiries@mail.nih.gov.

Public Comments

Any member of the public interested in presenting oral comments to the Committee must notify the Contact Person listed on this notice by 5:00 p.m. ET on Friday, November 8, 2013, with their request to present oral comments at the meeting. Interested individuals and representatives of organizations must submit a written/electronic copy of the oral presentation/statement including a brief description of the organization represented by 5:00 p.m. ET on Tuesday, November 12, 2013. Statements submitted will become a part of the public record. Only one representative of an organization will be allowed to present oral comments on behalf of that organization and presentations will be limited to three to five minutes per speaker, depending on number of speakers to be accommodated within the allotted time. Speakers will be assigned a time to speak in the order of the date and time when their request to speak is received, along with the required submission of the written/electronic statement by the specified deadline.

In addition, any interested person may submit written comments to the IACC prior to the meeting by sending the comments to the Contact Person listed on this notice by 5:00 p.m. ET on Tuesday, November 12, 2013. The comments should include the name, address, telephone number and when applicable, the business or professional affiliation of the interested person. NIMH anticipates written public comments received by 5:00 p.m. ET, Tuesday, November 12, 2013 will be presented to the Committee prior to the meeting for the Committee's consideration. Any written comments received after the November 12, 2013 deadline (between November 13-14, 2013) will be provided to the Committee either before or after the meeting, depending on the volume of comments received and the time required to process them in accordance with privacy regulations and other applicable Federal policies. All written public comments and oral public comment statements received by the deadlines for both oral and written public comments will be provided to the IACC for their consideration and will become part of the public record.

Core Values

In the 2009 IACC Strategic Plan, the IACC listed the “Spirit of Collaboration” as one of its core values, stating that, “We will treat others with respect, listen to diverse views with open minds, discuss submitted public comments, and foster discussions where participants can comfortably offer opposing opinions.” In keeping with this core value, the IACC and the NIMH Office of Autism Research Coordination (OARC) ask that members of the public who provide public comments or participate in meetings of the IACC also seek to treat others with respect and consideration in their communications and actions, even when discussing issues of genuine concern or disagreement.

Remote Access

This workshop will also be open to the public through a conference call number and live webcast on the Internet. Members of the public who participate using the conference call phone number will be able to listen to the discussion but will not be heard. If you experience any technical problems with the webcast or conference call, please send an email to helpdeskiacc@gmail.com or by phone at 415-652-8023.

Special Accommodations

Individuals who participate in person or by using these electronic services and who need special assistance, such as captioning of the conference call or other reasonable accommodations, should submit a request to the contact person listed on this notice at least 5 days prior to the meeting.

Security

In the interest of security, NIH has instituted stringent procedures for entrance onto the NIH campus. All visitor vehicles, including taxicabs, hotel, and airport shuttles will be inspected before being allowed on campus. Visitors will be asked to show one form of identification (for example, a government-issued photo ID, driver's license, or passport) and to state the purpose of their visit. Also as a part of security procedures, attendees should be prepared to present a photo ID at the meeting registration desk during the check-in process. Pre-registration is recommended. Seating will be limited to the room capacity and seats will be on a first come, first served basis, with expedited check-in for those who are pre-registered.

Meeting schedule is subject to change.

Information about the IACC is available on the Web site: http://iacc.hhs.gov/about/index.shtml.

Dated: October 30, 2013.
Carolyn Baum,
Program Analyst, Office of Federal Advisory Committee Policy.

[FR Doc. 2013-26418 Filed 11-4-13; 8:45 am]

BILLING CODE 4140-01-P